DEPARTMENT OF COMMERCE

Foreign-Trade Zones Board

[Docket 3-2011]

Foreign-Trade Zone 177—Evansville, IN; Application for Reorganization (Expansion of Service Area) Under the Alternative Site Framework

An application has been submitted to the Foreign-Trade Zones (FTZ) Board (the Board) by the Ports of Indiana, grantee of FTZ 177, requesting authority to reorganize its zone to expand its service area under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on January 3, 2011.

FTZ 177 was approved by the Board on March 12, 1991 (Board Order 513, 56 FR 12155, March 22, 1991) and expanded on July 2, 1993 (Board Order 648, 58 FR 37908, July 14, 1993). FTZ 177 was reorganized under the ASF on October 29, 2010 (Board Order 1721, 75 FR 68605, November 8, 2010).

The zone project currently has a service area that includes Vanderburgh, Dubois, Pike, Gibson, Knox, Daviess, Spencer, Warrick and Posey Counties, Indiana. The applicant is requesting authority to expand the service area of the zone to include Sullivan, Perry, Crawford, Orange and Martin Counties, as described in the application. If approved, the grantee would be able to serve sites throughout the expanded service area based on companies' needs for FTZ designation. The proposed expanded service area is adjacent to the Owensboro-Evansville Customs and Border Protection port of entry.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is March 8, 2011. Rebuttal comments in response to material submitted during the foregoing period may be submitted during the subsequent 15-day period to March 23, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Elizabeth Whiteman at Elizabeth.Whiteman@trade.gov or (202) 482-0473.

Dated: January 3, 2011.
Andrew McGilvray,
Executive Secretary.

[FR Doc. 2011-136 Filed 1-6-11; 8:45 am]

BILLING CODE P